NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

DATES: July 27, 2022 to September 30, 2023.

FOR FURTHER INFORMATION CONTACT: Andrew Titmus, ACA Permit Officer, Office of Polar Programs, National Science Foundation, 2415 Eisenhower Avenue, Alexandria, VA 22314; 703-292-4479; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection.

Description of Permit Modification Requested: The Foundation issued a permit (ACA 2021-002) to Megan Cimino on August 12, 2020. The issued permit allows the permit holder and agents to enter Antarctic Specially Protected Areas (ASPAs), as well as engage in research activities that would result in Take, Harmful Interference, and Import into the USA. The permit holder and agents may conduct activities associated with long-term studies of seabird ecology including diets, breeding success, growth rates, survival, recruitment, behavior, population trends, foraging success, and seasonal dispersal. Study species include Adelie, Chinstrap, and Gentoo Penguins; Brown and South Polar Skua; Southern Giant Petrel; Blue-eyed Shag; Kelp Gull; and Snowy Sheathbill. Specimens from these and other species may be salvaged from birds that have died of natural causes.

A recent modification to this permit, dated April 21, 2021, permitted the permit holder to deploy three time-lapse cameras, two on Torgersen Island and one on Humble Island (Restricted Zones within ASMA 7, Southwest Anvers Island and Palmer Basin), to monitor Adelie penguin occupation patterns in relation to the Palmer Station pier construction. The two islands of interest are where Adelie penguin foraging behavior, diet, and phenology have been routinely studied and are the largest Adelie colonies near Palmer Station. The equipment consists of a small camera attached to a steel pole with a square base that is anchored under rocks. The cameras would be deployed at the end of May 2021 by permit agents (if there are any delays, the cameras would be installed during October 2021). The equipment would be hand carried in pieces to the sites of interest and assembled in the field. The cameras would remain in place for at least two years to obtain information during the pier construction and the year after construction.

Now the permit holder proposes a modification to deploy seven acoustic recorders, four on Humble Island and three on Torgersen Island (Restricted Zones within ASMA 7, Southwest Anvers Island and Palmer Basin), to record Adelie penguin vocalizations throughout the breeding season for assessing the validity of a new approach for high resolution population censusing and metapopulation modeling. The equipment consists of small battery powered acoustic recorders attached to a PVC pole with PVC pole bases that would be anchored under rocks. The recorders would be deployed in November 2022 by permit agents and retrieved in March 2023. Recorders will be visited weekly to replace batteries and memory cards.

The ACA Permit Officer has reviewed the modification request and has determined that the amendment is not a material change to the permit, and it will have a less than a minor or transitory impact.

The permit modification was issued on July 27, 2022.

Erika N. Davis,
Program Specialist, Office of Polar Programs.

[FR Doc. 2022-16575 Filed 8-2-22; 8:45 am]

BILLING CODE 7555-01-P